SMALL BUSINESS ADMINISTRATION

Data Collection Available for Public Comments

ACTION: 60 Day Notice and request for comments.

SUMMARY: In accordance with the Paperwork Reduction Act of 1995, this notice announces the Small Business Administration's intentions to request approval on a new and/or currently approved information collection.

DATES: Submit comments on or before October 7, 2013.

ADDRESSES: Send all comments regarding whether these information collections are necessary for the proper performance of the function of the agency, whether the burden estimates are accurate, and if there are ways to minimize the estimated burden and enhance the quality of the collections, to Eric Wall, Financial Analyst, Office of Financial Assistance, Small Business Administration, 409 3rd Street SW., 6th Floor, Washington, DC 20416.

FOR FURTHER INFORMATION CONTACT: Eric Wall, Financial Analyst, 202-619-1625 eric.wall@sba.gov Curtis B. Rich, Management Analyst, 202-205-7030 curtis.rich@sba.gov.

Title: ”CDC Annual Report Guide”.

Abstract: 13 CFR, Section 120.830 requires CDCs to submit an annual report which contains financial statements, operational and management information. It is used by the district offices, Office of Financial Assistance, and Office of Lender Oversight to obtain information from the CDCs. The 1253 is a valuable tool for SBA to ensure that CDCs are operating according to the statues, regulations and policies governing the CDC loan program (504 program).

Description of Respondents: Certified Development Companies.

Form Number: 1253.

Annual Responses: 266.

Annual Burden: 7,488.

Title: ”Lender Advantage”.

Abstract: The information collected through these forms from the small business applicants and participating lenders will be used to determine eligibility and to properly evaluate and consider the merits of each loan request based on such criteria as character, capacity, credit, collateral, etc. for the purpose of extending credit under the 7(a) loan program.

Description of Respondents: 7(A) Lenders.

Form Numbers: 2301 Parts A, B, C, D, E.

Annual Responses: 13,650.

Annual Burden: 48,990.

Title: ”SBA Express and Pilot Loan Program (Export Express, Community Express and Patriot Express”.

Abstract: Section 7a of the Small Business Act (15 U.S.C) subsection 626(a) authorizes the Small Business Administration to guaranty loans in the SBA Express and Pilot Loan Programs. The regulations covering these and other loan programs at 13 CFR part 120 require certain information from loan applicants and lenders. These forms are the means for collecting that information.

Description of Respondents: Small Business Clients.

Form Numbers: 1919, 1920, 2237.

Annual Responses: 120,719.

Annual Burden: 58,856.

Curtis Rich,
Management Analyst.

[FR Doc. 2013-18902 Filed 8-5-13; 8:45 am]

BILLING CODE 8025-01-P